DEPARTMENT OF TRANSPORTATION

Federal Transit Administration

Early Scoping Notice

AGENCY: Federal Transit Administration, DOT.

ACTION: Early Scoping for the Southwest Corridor Plan in Metropolitan Portland, OR.

SUMMARY: The Federal Transit Administration (FTA) and the Metro (Oregon) regional government issue this early scoping notice to advise other agencies and the public that they intend to explore alternatives for improving transit service between downtown Portland and Sherwood, in Multnomah and Washington counties. The early scoping is occurring within the context of the Council on Environmental Quality's regulations for complying with the National Environmental Policy Act (NEPA). Several alternatives will be examined to explore their potential for implementation of a major transit capital investment under the New Starts funding program including light rail, bus rapid transit, rapid streetcar, high occupancy vehicle lanes, high occupancy toll lanes and a transportation system management (TSM) alternative. Public workshops have been planned and are described below. The FTA Alternatives Analysis (AA) process, as described in 49 U.S.C. 5309 (a) (1), will assess a wide range of public transportation alternatives designed to address the transportation problems within the corridor. This process will involve a more robust and detailed level of alternatives and will ultimately lead to the selection of a locally preferred alternative.

The initial phase of AA will provide adequate information to determine which alternative(s) to pursue for further analysis for implementation and what level of environmental analysis would be necessary for project implementation. In the second phase, the project may solicit [or obtain] additional public, agency, and tribal input to identify the nature and scope of the environmental issues that should be addressed during NEPA review, following appropriate public notice (anticipated in 2013). This NEPA scoping process will vary depending on whether the project requires an environmental assessment or an environmental impact statement. Metro and FTA will notify the public of NEPA scoping after that decision has been made.

Information about upcoming public meetings and about the project's purpose is set forth below.

DATES: Six public events will be held to accept comments on the following dates and locations:

SW Corridor Plan/Tigard Open House/Barbur Concept Plan, 6:30 to 8:30 p.m., September 28, 2011, Tigard Library, Tigard.

PSU Farmers' Market, 8:30 a.m. to 2 p.m., October 8, 2011, West Park Avenue and Southwest Montgomery Street, Portland.

King City/Tigard Area Farmers' Market, 9 a.m. to 2 p.m., October 16, 2011, 11831 SW., Pacific Hwy @ Hwy 99 & 217.

24th Annual Great Onion Festival, 9 a.m. to 4 p.m, October 16, 2011, Archer Glen Elementary School, 16155 SW Sunset Blvd. Sherwood.

8th Annual West Coast Giant Pumpkin Regatta, 10 a.m. to 4 p.m., October 22, 2011, Tualatin Commons, Tualatin.

The public meetings will have information and staff available to discuss the project and answer questions, and there will be opportunities for spoken and written comments. Information is also available on the Metro Web site at: http://www.swcorridorplan.org. Written scoping comments are requested by October 28, 2011 and can be sent or emailed to the address below, submitted at the public meetings, or provided via the online comment form available at http://www.swcorridorplan.org.

Any individual who requires special assistance, such as a sign language interpreter, to participate in a public workshop should contact Jenn Tuerk at (503) 797-1756 or trans@oregonmetro.gov.

Interagency and Tribal Coordination Meetings:

Interagency and Tribal coordination meetings will occur at various times throughout this study to identify evaluation criteria, and to assist in developing and screening alternatives during this planning process.

ADDRESSES: Written comments to inform the scope of this project should be submitted by October 28, 2011 to Jenn Tuerk, Metro, 600 NE Grand Ave., Portland, OR 97232. Telephone: (503) 797-1756. E-mail: jenn.tuerk@oregonmetro.gov.

FOR FURTHER INFORMATION CONTACT: John Witmer, Community Planner, Federal Transit Administration, Region 10, 915 Second Ave., Room 3142, Seattle, WA 98174. Telephone: (206) 220-7964; E-mail: John.Witmer@dot.gov

SUPPLEMENTARY INFORMATION:

Early Scoping

Early scoping is a NEPA process that is particularly useful in situations where, as here, a proposed action (the locally preferred alternative) has not been identified and several broad alternatives are under consideration. While scoping generally follows issuance of a notice of intent to prepare an Environmental Impact Statement (EIS), which must describe the proposed action, it “may be initiated earlier, as long as there is appropriate public notice and enough information on the proposal so that the public and relevant agencies can participate effectively.” Council on Environmental Quality (CEQ), “Forty Most Asked Questions Concerning CEQ's NEPA Regulations,” 46 CFR parts 18026, 18030 (1981) (answer to question 13). In this case, available information is adequate to permit the public and agencies to participate effectively. Early scoping provides a way to avoid duplication, waste and delay.

New Starts Planning

New Starts is a discretionary FTA funding program for major capital investments in transit. Planning for an anticipated transit project in the Southwest Corridor will adhere to New Starts' required Alternatives Analysis process as outlined in 49 U.S.C. 5309(a)(1). The alternatives analysis process requires a broad evaluation of alternatives by examining several options of mode and alignment that could address defined mobility needs, in order to determine which particular investment strategy should be advanced for more focused study and development. The result is a clearly defined project problem statement and an analysis of planning-level alternatives, which are helpful precursors to NEPA's required statement of purpose and need and consideration of specific project alternatives. Where state and local planning can lead toward a well defined purpose and need statement and satisfy the requirements for NEPA, including scoping, it should not have to be duplicated later in that process. See 40 CFR 1506.2(b). Accordingly, in the Southwest Corridor AA, Metro will explore alternative configurations of mode, alignment, and stations, and will examine costs, funding, ridership, economic development, land use, engineering feasibility, and environmental factors associated with each. All alternatives will be compared to (i) A “No-Build” alternative, which represents the future transportation system through the year 2035 without Southwest Corridor transit improvements, and (ii) a Transportation Systems Management (TSM) alternative, which will examine methods for improving transit in the Southwest Corridor without significant new capital investment (for instance, more frequent bus service, new or expanded park and ride capacity, and/or freeway or arterial transit priority improvements). Following this analysis, a locally preferred alternative—the “proposed action”—will be determined, as will the appropriate level of NEPA review (environmental assessment or EIS). If an EIS is warranted, FTA will publish a notice of intent in the Federal Register and will invite and consider comments on the proposed action's purpose and need, the range of alternatives to be considered, and the potentially significant environmental impacts.

The Southwest Corridor and Regional Planning

The Southwest Corridor runs 15 miles from Portland, Oregon to Sherwood, Oregon. It generally follows Interstate 5 (I-5) and State Highway OR 99W (99W). The two highways parallel each other closely from Portland to Tigard, where they diverge. I-5 and 99W serve as the main travel routes between Portland, Tigard and Tualatin; 99W is the main travel route to the cities of King City and Sherwood. Arterials and bus service support movements in and through the corridor. The arterial, collector, and local street network in the vicinity of much of the corridor is winding and discontinuous because of the varying topography and suburban style development patterns. Pedestrian connectivity is limited, much of the area lacks sidewalks and crosswalks, and bicycle paths are discontinuous.

The Southwest Corridor Plan seeks to create livable and sustainable communities by simultaneously planning for synergistic investments and policies in land use and transportation. The resulting projects and policies from the plan will leverage public investments for improved mobility and increased access to employment, housing, education, and other services. The Southwest Corridor Plan calls for local land use planning, which will identify land use actions and investments (including transit) to support livable communities; a Corridor Refinement Plan to examine the function, mode, and general location of transportation improvements; and the New Starts Alternatives Analysis (AA).

The Southwest Corridor Plan implements the 2040 Growth Concept, adopted in 1995, and the 2035 Regional Transportation Plan (RTP), adopted in 2010. In 2008, the Metro Council adopted six desired outcomes that describe a sustainable and prosperous region; those outcomes, along with the DOT/HUD/EPA Partnership for Sustainable Communities livability principles, guide the Southwest Corridor Plan. The RTP identified the Southwest Corridor as the corridor with the greatest need for multimodal regional transportation investments, and identified the Southwest Corridor as the region's next priority for transit investment measured by 25 evaluation criteria, including the potential to improve transit service for the highest number of new and existing riders. The corridor ranked highest among the 55 corridors examined.

Purposes of the Southwest Corridor AA

The Southwest Corridor AA will determine how a transit investment could best meet livability and community needs, provide environmental benefits, and support the economy. The plan will evaluate the potential for implementation based on costs, benefits and efficiencies of operations. In this corridor, a transit investment should:

• Increase economic opportunities by improving movement/access between markets.

• Increase access to major regional destinations and activity centers; regionally significant employment, educational and commercial centers; and affordable housing.

• Address increasing growth in an already congested corridor by providing affordable transportation options for households and businesses.

• Improve safety and efficiency for all modes of travel .

• Develop solutions to the constraints of the existing landscape.

• Limit carbon and other air pollutant emissions by planning for efficient and complementary land use and transportation solutions .

• Be fiscally sustainable.

• Avoid or minimize environmental impacts of the transportation system.

• Enhance the natural environment and access to natural areas.

Issued on: September 19, 2011.
R.F. Krochalis,
Regional Administrator, Region 10.

[FR Doc. 2011-25060 Filed 9-28-11; 8:45 am]

BILLING CODE 4910-57-P